DEPARTMENT OF AGRICULTURE

Forest Service

Easy Fire Recovery Project, Malheur National Forest, Grant County, OR

AGENCY: Forest Service, USDA.

ACTION: Notice of intent to prepare an environmental impact statement

SUMMARY: The USDA, Forest Service will prepare an environmental impact statement (EIS) on a proposal to assist the recovery of the area that burned in the Easy Fire in the Summer of 2002. The proposal is to salvage fire-killed and fire-damaged timber, implement re-forestation in the project area, and implement projects to reduce the potential for future damage to wildlife habitat and aquatic resources as a result of the Easy Fire. The 5,839 acre project area is located on the Prairie City Ranger District and is centered approximately 11 miles east of Prairie City, Oregon, with the Upper Middle Fork John Day River and Upper John Day River Watersheds. The agency gives notice of the full environmental analysis and decision making process that will occur on the proposal so that interested and affected people may become aware of how they can participate in the process and contribute to the final decision.

DATES: Comments concerning the scope of the analysis must be received by April 30, 2003.

ADDRESSES: Send written comments to Ryan Falk, Acting District Ranger, Prairie City Ranger District, 327 Front Street, Prairie City, Oregon 97869.

FOR FURTHER INFORMATION CONTACT: Eric Ornberg, Easy Fire Recovery Project Team Leader, Middle Fork Ranger District, Williamette National Forest; Phone: 541-782-5217. Email eornberg@fs.fed.us or use the Malheur National Forest Web site at http://www.fs.fed.us/r6/malheur.

SUPPLEMENTARY INFORMATION: In July and August 2002, the Easy Fire burned approximately 5,839 acres on the Malheur National Forest. The decision area for the Easy Fire Recovery Project is located in the Upper Middle Fork John Day River watershed and the Upper John Day River Watershed. The project area is entirely within National Forest System lands.

Purpose and Need for Action. The purposes and need for actions “here” within the Easy Fire Recovery Project area and “now” are:

• Capture the economic value of the dead and dying trees that are in excess to other resource needs;

• Reduce the fuels levels of dead standing and down;

• Improve resiliency of forest vegetation to insect and disease outbreaks, and restore ecologically appropriate forest structure in the surviving stands;

• Replant and restore forest vegetation for the benefit of wildlife, fish, and timber products;

• Replace Dedicated and Replacement Old Growth areas that burned and are not longer suitable;

• Reduce road and skid trail impacts to meet Forest Plan standards for wildlife, fisheries, and water quality; and

• Provide safe access for administrative, recreational, and fire recovery activities.

Proposed Action. The following actions are proposed to respond to the purpose and need for action: approximately 3,200 acres, in areas of moderate and high burned severity, would be salvaged (including dead, dying, and green trees) and replanted; approximately 400 acres of lower severity burned forest would be salvaged and replanted to improve stand resiliency to insects and disease outbreak; approximately 160 acres of fire-killed or damaged post and pole-sized stands will be salvaged; designate new Dedicated and Replacement Old Growth areas to replace areas now unsuitable due to fire damage; and hazard trees would be removed along system roads. About 50 percent of the proposed timber salvage units would be harvested using ground-based logging systems, 10 percent would be harvested using skyline logging systems, and 40 percent would be harvested by helicopter. No new system road construction is proposed for the salvage harvest. Construction of approximately 0.6 miles of temporary roads and approximately 69 miles of road maintenance would be required for timber salvage. The temporary roads would be decommissioned after project activities. Connected actions in association with salvage include water barring and erosion control measures such as scattering of slash on skid trails and treatment of slash.

Approximately 3,760 acres would be planted following salvage and site preparation. Snag retention levels would meet Forest Plan standards. Fuels would be reduced to within the range of historic variability throughout the project area. A variety of fuel treatment methods would be used (salvage, burning in place, piling and burning, and whole-tree yarding). Selection of new Dedicated and Replacement Old Growth areas would require a non-significant amendment to the Forest Plan.

Alternatives. A full range of alternatives will be considered, including a “no-action” alternative in which none of the activities proposed above would be implemented. Based on the issues gathered through scoping, the action alternatives would differ in: the silvicultural and post-harvest treatments prescribed; the amount and location of harvest; or the amount and location of fuels reduction activity. Other management activities which will be used to develop other alternatives may include: avoid salvage harvest on the steeper slopes above Clear Creek and Easy Creek to reduce sediment delivery to these streams (which are habitat or tributary to habitat for threatened fish species); consider various regeneration strategies (i.e. low stocking levels); and consider current science on snag and coarse woody debris dependent species habitat (this could result in site-specific Forest Plan amendment to update standards and guidelines).

Scoping. The scoping process will include: identifying potential issues, identifying major issues to be analyzed in depth, eliminating non-significant issues or those previously covered by a relevant environmental analysis, and identifying potential environmental effects of this proposed action and alternatives (i.e. direct, indirect, and cumulative effects and connected actions). The public will have the opportunity to participate at several points during the analysis process. The public will be kept informed of the EIS process through the quarterly publication of the “Malheur National Forest's Schedule of Proposed Actions” and letters to agencies, organizations, and individuals who have previously indicated their interest in similar activities.

Issues. Preliminary issues include effects of proposed actions on: Water quality and fish habitat for resident and anadromous threatened species; snags and downed wood habitat; noxious weeds; late and old growth structure; Armillaria root rot; restoration of historic vegetation composition, structure, and pattern; potential loss of commercial timber value; and economic viability of timber salvage.

Comments. Public comments about this proposal are requested in order to assist in properly scoping issues, determining how to best manage the resources, and fully analyzing environmental effects. Comments received to this notice, including names and addresses of those who comment, will be considered part of the public record on this proposed action and will be available for public inspection. Comments submitted anonymously will be accepted and considered; however, those who submit anonymous comments will not have standing to appeal the subsequent decision under 36 CFR parts 214 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is expected to be filed with the Environmental Protection Agency (EPA) and made available for public review by July 2003. The comment period on the draft EIS will be 45 days from the date the EPA publishes the notice of availability in the Federal Register. The final EIS is scheduled to be available in October 2003. Implementation is expected to occur in 2004.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

The Forest Service is the lead agency. The Responsible Official is the Forest Supervisor, Malheur National Forest. The Responsible Official will decide which, if any, of the proposed projects will be implemented. The Responsible Official may also decide on site-specific Forest Plan amendments regarding standards and guidelines for snag and coarse woody debris, as well as big game habitat, if warranted by the analysis of those components in light of recent science. The Responsible Official will document the Easy Fire Recovery Project decision and reasons for the decision in the Record of Decision. That decision will be subject to Forest Service Appeal Regulations (36 CFR part 215).

Dated: March 13, 2003.
Roger Willians,
Forest Supervisor.

[FR Doc. 03-6900 Filed 3-21-03; 8:45 am]

BILLING CODE 3410-11-M